DEPARTMENT OF LABOR

Employment and Training Administration

[TA-W-71,302]

TNS Custom Research, Indiana, PA; Notice of Termination of Investigation

Pursuant to Section 223 of the Trade Act of 1974, as amended, an investigation was initiated on June 17, 2009 in response to a worker petition filed by workers of TNS Custom Research, Indiana, Pennsylvania.

The petitioning group of workers is covered by an earlier petition (TA-W-71,297) filed on June 17, 2009 that is the subject of an ongoing investigation for which a determination has not yet been issued. Consequently, further investigation in this case would serve no purpose, and the investigation under this petition has been terminated.

Signed at Washington, DC, this 1st day of July 2009.
Elliott S. Kushner,
Certifying Officer, Division of Trade Adjustment Assistance.

[FR Doc. E9-18058 Filed 7-28-09; 8:45 am]

BILLING CODE 4510-FN-P